DEPARTMENT OF HEALTH AND HUMAN SERVICES

Food and Drug Administration

[Docket No. 2006N-0426]

Withdrawal of Federal Register Notice

AGENCY: Food and Drug Administration, HHS.

ACTION: Notice; withdrawal.

SUMMARY: The Food and Drug Administration (FDA) is announcing the withdrawal of a 60-day notice that published in the Federal Register of October 31, 2006 (71 FR 63765). The document published in error.

DATES: December 7, 2006.

FOR FURTHER INFORMATION CONTACT: Denver Presley, Jr., Office of the Chief Information Officer (HFA-250), Food and Drug Administration, 5600 Fishers Lane, Rockville, MD 20857, 301-827-1472.

SUPPLEMENTARY INFORMATION: FDA is withdrawing a 60-day notice entitled “Medical Device User Fee and Modernization Act Small Business Qualification Certification (Form FDA 3602),” which published in the Federal Register of October 31, 2006 (71 FR 63765), because it is a duplicate of an earlier 60-day notice. The earlier 60-day notice published in the Federal Register of August 29, 2006 (71 FR 51196). The October 31 notice was published in error.

Dated: November 30, 2006.
Jeffrey Shuren,
Assistant Commissioner for Policy.

[FR Doc. E6-20705 Filed 12-6-06; 8:45 am]

BILLING CODE 4160-01-S